DEPARTMENT OF COMMERCE

Foreign-Trade Zones Board

[Docket 43-2007]

Foreign-Trade Zone 235—Lakewood, NJ; Application for Expansion

An application has been submitted to the Foreign-Trade Zones (FTZ) Board (the Board) by the Township of Lakewood, New Jersey, grantee of FTZ 235, requesting authority to expand its existing zone to include additional sites in or adjacent to the Philadelphia Customs and Border Protection port of entry. The application was submitted pursuant to the provisions of the Foreign-Trade Zones Act, as amended (19 U.S.C. 81a-81u), and the regulations of the Board (15 CFR part 400). It was formally filed on August 24, 2007.

FTZ 235 was approved on November 25, 1998 (Board Order 1008, 63 FR 67854, 12/9/98). The zone project currently consists of the following two sites (2,248 acres total) in the Township of Lakewood: Site 1 (1,996 acres total, 3 contiguous parcels): Parcel A (1,540 acres)—Lakewood Airport located on State Highway Route 70; Parcel B (47 acres)—Pine Street South Industrial District located on Pine Street; and, Parcel C (409 acres)—Lakewood Industrial Campus West located on Cedar Bridge Avenue; and, Site 2 (252 acres)—Prospect Street Industrial Park located at Prospect and James Streets.

The applicant is now requesting authority to expand the zone to include two additional sites in the area: Proposed Site 3 (351 acres, 2 parcels)—within the Cranbury Business Park, located at 61 & 66 Station Road (Parcel 1—209 acres) and at Half Acre Road and Santa Fe Way (Parcel 2—142 acres) in Cranbury; and, Proposed Site 4 (50 acres)—ProLogis Park-South Brunswick, 380 Deans Rhode Hall Road, Jamesburg. The sites will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is November 6, 2007. Rebuttal comments in response to material submitted during the foregoing period may be submitted during the subsequent 15-day period to November 21, 2007.

A copy of the application and accompanying exhibits will be available for public inspection at each of the following locations: Township of Lakewood, Municipal Building, 231 Third Street, Lakewood, NJ 08701; and, Office of the Executive Secretary, Foreign-Trade Zones Board, Room 2111, U.S. Department of Commerce, 1401 Constitution Avenue, NW., Washington, DC 20230.

For further information, contact Camille Evans at Camille_Evans@ita.doc.gov or (202) 482-2350.

Dated: August 27, 2007.
Andrew McGilvray,
Executive Secretary.

[FR Doc. E7-17710 Filed 9-6-07; 8:45 am]

BILLING CODE 3510-DS-P